DEPARTMENT OF COMMERCE

National Oceanic and Atmospheric Administration

RIN 0648-XF67

Schedule for Atlantic Shark Identification Workshops; Changing the Location of an Atlantic Shark Identification Workshop; Correction

AGENCY: National Marine Fisheries Service (NMFS), National Oceanic and Atmospheric Administration (NOAA), Commerce.

ACTION: Notice of public workshops; correction.

SUMMARY: Due to unanticipated construction activity at the North Tampa Branch Library, NMFS is changing the location of its April 24, 2008, Atlantic Shark Identification Workshop that published in the Federal Register on March 4, 2008. The May and June workshop locations remain unchanged. Shark dealers are required to attend a workshop to meet new regulatory requirements and maintain valid permits. The Atlantic Shark Identification Workshops are mandatory for all federally permitted Atlantic shark dealers. Additional free workshops will be held in 2008 and announced in the Federal Register.

DATES: The dates and times for the Atlantic Shark Identification Workshops have not been changed and will be held April 24, May 22, and June 19, 2008.

See SUPPLEMENTARY INFORMATION for further details.

ADDRESSES: The Atlantic Shark Identification Workshops will be held in Tampa, FL; Wilmington, NC; and Jefferson, LA. See SUPPLEMENTARY INFORMATION for the corrected Tampa, FL, workshop location.

FOR FURTHER INFORMATION CONTACT: Greg Fairclough by phone:(727) 824-5399, or by fax: (727) 824-5398.

SUPPLEMENTARY INFORMATION:

Correction

In the Federal Register of March 4, 2008, in FR Doc. E8-4126, on page 11622, in the first column, correct the location of the first workshop listed under the heading “Workshop Dates, Times, and Locations” to read:

Workshop Dates, Times, and Locations

1. April 24, 2008, from 10:30 a.m. - 3:30 p.m. Town 'N Country Regional Public Library, Thompson Center Waters Complex, 5455 West Waters Avenue - Suite 208, Tampa, FL 33634.

Atlantic Shark Identification Workshop

Effective December 31, 2007, an Atlantic shark dealer may not receive, purchase, trade, or barter for Atlantic shark unless a valid Atlantic Shark Identification Workshop certificate is on the premises of each business listed under the shark dealer permit (71 FR 58057; October 2, 2006). Dealers who attend and successfully complete a workshop will be issued a certificate for each place of business that is permitted to receive sharks.

Dealers may send a proxy to an Atlantic Shark Identification Workshop, however, if a dealer opts to send a proxy, the dealer must designate a proxy for each place of business covered by the dealer's permit. Only one certificate will be issued to each proxy. A proxy must be a person who: is currently employed by a place of business covered by the dealer's permit; is a primary participant in the identification, weighing, and/or first receipt of fish as they are offloaded from a vessel; and fills out dealer reports. Additionally, after December 31, 2007, an Atlantic shark dealer may not renew a Federal shark dealer permit unless a valid Atlantic Shark Identification Workshop certificate for each business location has been submitted with the permit renewal application. Sixteen free Atlantic Shark Identification Workshops were held in 2007.

The workshop schedules, registration information, and a list of frequently asked questions regarding these workshops are posted on the internet at: http://www.nmfs.noaa.gov/sfa/hms/workshops.

Registration

To register for a scheduled Atlantic Shark Identification Workshop, please contact Eric Sander by email at esander@peoplepc.com or by phone at (386) 852-8588.

Registration Materials

To ensure that workshop certificates are linked to the correct permits, participants will need to bring the following items to the workshop:

Atlantic shark dealer permit holders must bring proof that the individual is an agent of the business (such as articles of incorporation), a copy of the applicable permit, and proof of identification.

Atlantic shark dealer proxies must bring documentation from the shark dealer acknowledging that the proxy is attending the workshop on behalf of the Atlantic shark dealer, a copy of the appropriate permit, and proof of identification.

Workshop Objectives

The shark identification workshops are designed to reduce the number of unknown and improperly identified sharks reported in the dealer reporting form and increase the accuracy of species-specific dealer-reported information. Reducing the number of unknown and improperly identified sharks will improve quota monitoring and the data used in stock assessments. These workshops will train shark dealer permit holders or their proxies to properly identify Atlantic shark carcasses.

Dated: April 1, 2008.
Alan D. Risenhoover
Director, Office of Sustainable Fisheries, National Marine Fisheries Service.

[FR Doc. E8-7230 Filed 4-4-08; 8:45 am]

BILLING CODE 3510-22-S